DEPARTMENT OF ENERGY

Federal Energy Regulatory Commission

[Project No. 2331-083]

Duke Energy Carolinas; Notice of Availability of Environmental Assessment

In accordance with the National Environmental Policy Act of 1969 and the Federal Energy Regulatory Commission (Commission) regulations, 18 CFR part 380 (Order No. 486, 52 FR 47897), the Office of Energy Projects has reviewed an application submitted by Duke Energy Carolinas (licensee) to allow Thomas Sand Company, in Cherokee County, South Carolina, the use of Ninety-Nine Islands Hydroelectric (FERC No. 2331) project lands and waters to conduct hydraulic sand mining. The project is located on the mainstem of the Broad River between the upstream Cherokee Falls Project (FERC No. 2880) and downstream Lockhart Project (FERC No. 2620) in Cherokee County, South Carolina. The reservoir is approximately 4 miles long, with approximately 1 mile of transitional flowing habitat upstream of the impounded reach. The project does not occupy federal lands.

An Environmental Assessment (EA) has been prepared as part of Commission staff's review of the proposal. In the application, Thomas Sand anticipates removing 42,000 tons of sand each year from a 33 acre area of the project reservoir. The dredge would pump sand to an upland processing area outside of the project area. This EA contains Commission staff's analysis of the probable environmental impacts of the proposed action and concludes that approval of the proposal would not constitute a major federal action significantly affecting the quality of the human environment with implementation of the staff recommendations.

The EA is available for electronic review and reproduction at the Commission's Public Reference Room, located at 888 First Street NE, Room 2A, Washington, DC 20426. The EA may also be viewed on the Commission's website at http://www.ferc.gov using the “eLibrary” link. Enter the docket number (P-2331) in the docket number field to access the document. For assistance, contact FERC Online Support at FERCOnlineSupport@ferc.gov or toll-free at (866) 208-3372 or for TTY, (202) 502-8659.

For further information, contact Michael Calloway at (202) 502-8041 or by email at michael.calloway@ferc.gov.

Dated: March 18, 2019.
Kimberly D. Bose,
Secretary.

[FR Doc. 2019-05493 Filed 3-21-19; 8:45 am]

BILLING CODE 6717-01-P